DEPARTMENT OF VETERANS AFFAIRS

Advisory Committee on Cemeteries and Memorials, Notice of Meeting

The Department of Veterans Affairs (VA) gives notice under the Federal Advisory Committee Act, 5 U.S.C. app. 2, that the annual meeting of the Advisory Committee on Cemeteries and Memorials (the Committee) will be held Wednesday, November 2-Thursday, November 3, 2022, at the Jefferson Barracks Medical Center, 1 Jefferson Barracks Drive, Building 56, 1st Floor, Room 130A-C, St. Louis, MO 63125. The meeting sessions will begin and end as follows:

Date | Time
Wednesday, November 2, 2022 | 8:30 a.m. to 4:30 p.m. CST.
Thursday, November 3, 2022 | 8:30 a.m. to 2:30 p.m. CST.

The meeting sessions are open to the public. If you are interested in attending the meeting virtually, the dial-in number for both days is 1-404-397-1596, Access Code: 27611544016#.

The purpose of the Committee is to advise the Secretary of Veterans Affairs on the administration of national cemeteries, soldiers' lots and plots, the selection of new national cemetery sites, the erection of appropriate memorials, and the adequacy of Federal burial benefits. The Committee will make recommendations to the Secretary regarding such activities.

On Wednesday, November 2, 2022, the agenda will include remarks by the Department of Veterans Affairs (VA) and National Cemetery Administration (NCA) Leadership; appointment of new members; briefings on the Federal Advisory Committee Act, VA History Program; an overview of the Jefferson Barracks National Cemetery Complex, National Cemetery Scheduling Office, and National Training Center, public comments and open discussion.

On Thursday, November 3, 2022, the agenda will include remarks and a recap from the committee chair; an Update on the Commemorative Plaque and Urn Benefit, Veterans Cemetery Grants Program, Veterans Benefits Administration Journey Map, Committee working group updates, public comments; and open discussion. In the afternoon, the Committee will tour Jefferson Barracks National Cemetery and the National Training Center. Transportation will not be provided for public guests.

Any member of the public wishing to attend the meeting or seeking additional information should contact Ms. Faith Hopkins, Designated Federal Officer, at 202-603-4499. Please leave a voice message. The Committee will also accept written comments. Comments may be transmitted electronically to the Committee at Faith.Hopkins@va.gov. In the public's communications with the Committee, the writers must identify themselves and state the organizations, associations, or persons they represent.

Dated: September 28, 2022.
Jelessa M. Burney,
Federal Advisory Committee Management Officer.

[FR Doc. 2022-21367 Filed 9-30-22; 8:45 am]

BILLING CODE P